DEPARTMENT OF LABOR

Mine Safety and Health Administration

Petitions for Modification

The following parties have filed petitions to modify the application of existing safety standards under section 101(c) of the Federal Mine Safety and Health Act of 1977.

1. Fork Creek Mining Company

[Docket No. M-2001-026-C]

Fork Creek Mining Company, PO Box 24, Alum Creek, West Virginia 25003 has filed a petition to modify the application of 30 CFR 75.350 (belt haulage entries) to its Tiny Creek No. 2 Mine (I.D. No. 46-08835) located in Lincoln County, West Virginia. The petitioner proposes to use belt air to ventilate active working places. The petitioner proposes to install a carbon monoxide monitoring system as an early warning fire detection system in all belt entries used to carry intake air to a working place. The petitioner asserts that the proposed alternative method would provide at least the same measure of protection as the existing standard.

2. Eighty-Four Mining Company

[Docket No. M-2001-027-C]

Eighty-Four Mining Company, Consol Plaza, 1800 Washington Road, Pittsburgh, Pennsylvania 15241-1421 has filed a petition to modify the application of 30 CFR 75.312(c) and (d) (main mine fan examinations and records) to its Mine 84 (I.D. No. 36-00958) located in Washington County, Pennsylvania. The petitioner proposes to test automatic closing doors and the automatic fan signal devices at least every 31 days without shutting down the fan and without removing miners from the mine to eliminate the hazards associated with shutting the fan down. The petitioner asserts that the proposed alternative method would provide at least the same measure of protection as the existing standard.

3. DLR Mining, Inc.

[Docket No. M-2001-028-C]

DLR Mining, Inc., 3065 Airport Road, Indiana, Pennsylvania 15701 has filed a petition to modify the application of 30 CFR 75.1100-2(e)(2) (quantity and location of firefighting equipment) to its Nolo Mine (I.D. No. 36-08850) located in Indiana County, Pennsylvania. The petitioner proposes to use two (2) fire extinguishers or one fire extinguisher of twice the required capacity at all temporary electrical installations instead of using 240 pounds of rock dust. The petitioner asserts that the proposed alternative method would provide at least the same measure of protection as the existing standard.

4. Bowie Resources Limited

[Docket No. M-2001-029-C]

Bowie Resources Limited, PO Box 483, Paonia, Colorado 81428 has filed a petition to modify the application of 30 CFR 75.1726(a) (performing work from a raised position; safeguards) to its Bowie No. 2 Mine (I.D. No. 05-04591) located in Delta County, Colorado. The petitioner requests a modification of the existing standard to permit the use of modified diesel powered L.H.D.’s or scoops as elevated mobile work platforms at the Bowie No. 2 Mine. The petitioner asserts that the proposed alternative method would provide at least the same measure of protection as the existing standard.

5. Independence Coal Company, Inc.

[Docket No. M-2001-030-C]

Independence Coal Company, HC 78 Box 1800, Madison, West Virginia 25130 has filed a petition to modify the application of 30 CFR 75.503 (permissible electric face equipment; maintenance) and 30 CFR 18.41(f) (plug and receptacle-type connectors) to its Allegiance Mine (I.D. No. 46-08735), Jacks Branch Buffalo Creek Mine (I.D. No. 46-08513), Justice #1 Mine (I.D. No. 46-07273), Twilight Chilton R Mine (I.D. No. 46-08513) located in Boone County, West Virginia; and Cedar Grove Mine (I.D. No. 46-08603), Shumate Powellton Mine (I.D. No. 46-08492), Shumate Upper Cedar Grove Mine (I.D. No. 46-08497), and Tunnel Mine (I.D. No. 46-08655) located in Raleigh County, West Virginia. The petitioner proposes to use a permanently installed spring-loaded device instead of a padlock on mobile battery-powered equipment to prevent unintentional loosening of battery plugs from battery receptacles. The petitioner asserts that the proposed alternative method would provide at least the same measure of protection as the existing standard.

6. Aracoma Coal Company, Inc.

[Docket No. M-2001-031-C]

Aracoma Coal Company, Inc., PO Box 470, Stollings, West Virginia 25646 has filed a petition to modify the application of 30 CFR 75.503 (permissible electric face equipment; maintenance) and 18.41(f) (plug and receptacle-type connectors) to its Hernshaw Mine (I.D. No. 46-08802) located in Logan County, West Virginia. The petitioner proposes to use a threaded ring and a spring-loaded device instead of padlocks on mobile battery-powered machines to prevent the plug connector from accidently disengaging while under load. Warning tags stating “Do Not Disengage Plugs Under Load” will be placed on all battery connectors on the battery-powered equipment. The petitioner states that all persons who operate or maintain battery-powered machines will be instructed on the safe practices and provisions for compliance with this proposed alternative method. The petitioner asserts that application of the existing standard would result in a diminution of safety to the miners and that the proposed alternative method would provide at least the same measure of protection as the existing standard.

7. Aracoma Coal Company, Inc.

[Docket No. M-2001-032-C]

Aracoma Coal Company, Inc., PO Box 470, Stollings, West Virginia 25646 has filed a petition to modify the application of 30 CFR 75.503 (permissible electric face equipment; maintenance) and 18.41(f) (plug and receptacle-type connectors) to its Hernshaw Mine (I.D. No. 46-08802) located in Logan County, West Virginia. The petitioner proposes to use a threaded ring and a spring loaded device instead of padlocks on battery connectors on mobile battery-powered machines used inby the last open crosscut to prevent the plug connector from accidently disengaging while under load. Warning tags stating “Do Not Disengage Plugs Under Load” will be placed on all battery connectors on the battery-powered equipment. The petitioner states that all persons who operate or maintain battery-powered machines will be instructed on the safe practices and provisions for compliance with this proposed alternative method. The petitioner asserts that application of the existing standard would result in a diminution of safety to the miners and that the proposed alternative method would provide at least the same measure of protection as the existing standard.

8. American Energy Corporation

[Docket No. M-2001-033-C]

American Energy Corporation, Post Office Box 5, Alledonia, Ohio 43902 has filed a petition to modify the application of 30 CFR 75.350 (air courses and belt haulage entries) to its Century Mine (I.D. No. 33-01070) located in Belmont County, Ohio. The petitioner proposes to use air coursed through belt haulage entries to ventilate active working places. The petitioner proposes to install a carbon monoxide monitoring system as an early warning fire detection system in all belt entries used to course intake air to a working place. The petitioner asserts that the proposed alternative method would provide at least the same measure of protection as the existing standard.

9. Newtown Energy, Inc.

[Docket No. M-2001-034-C]

Newtown Energy, Inc., 13905 MacCorkle Avenue, One Carbon Center, Suite 200, Chesapeake, West Virginia 25315 has filed a petition to modify the application of 30 CFR 75.503 (permissible electric face equipment; maintenance) and 30 CFR 18.41(f) (plug and receptacle-type connectors) to its Eagle Mine No. 1 (I.D. No. 46-08759) located in Kanawha County, West Virginia. The petitioner proposes to use permanently installed spring-loaded devices instead of padlocks on battery plugs on mobile battery-powered machines to prevent the threaded ring from unintentional loosening while under load. Warning tags stating “Do Not Disengage Plugs Under Load” will be placed on all battery connectors on the battery-powered equipment. The petitioner states that all persons who operate or maintain battery-powered machines will be instructed on the safe practices and provisions for compliance with this proposed alternative method. The petitioner asserts that the proposed alternative method would provide at least the same measure of protection as the existing standard.

10. Twentymile Coal Company

[Docket No. M-2001-035-C]

Twentymile Coal Company, One Oxford Centre, 301 Grant Street, 20th Floor, Pittsburgh, Pennsylvania 15219 has filed a petition to modify the application of 30 CFR 75.901 (protection of low- and medium-voltage three-phase circuits used underground) to its Foidel Creek Mine (I.D. No. 05-03836) located in Routt County, Colorado. The petitioner requests that paragraph 1 and paragraph 12 of the Proposed Decision and Order be amended for its previously granted petition for modification, docket number M-1998-056-C. The petitioner asserts that the proposed alternative method would provide at least the same measure of protection as the existing standard.

11. Twentymile Coal Company

[Docket No. M-2001-036-C]

Twentymile Coal Company, One Oxford Centre, 301 Grant Street, 20th Floor, Pittsburgh, Pennsylvania 15219 has filed a petition to modify the application of 30 CFR 75.701 (grounding metallic frames, casings, and other enclosures of electric equipment) to its Foidel Creek Mine (I.D. No. 05-03836) located in Routt County, Colorado. The petitioner requests a modification of the existing standard to permit an alternative method of compliance for grounding of its diesel generator to provide power to electric powered equipment used to travel through the mine and to haul equipment and supplies. The petitioner proposes to ground the portable generator to a low ground field and incorporate a ground fault system for the power circuits that would deenergize the mining equipment if a phase to frame fault occurs. The petitioner asserts that the proposed alternative method would provide at least the same measure of protection as the existing standard.

12. Left Fork Mining Company, Inc.

[Docket No. M-2001-037-C]

Left Fork Mining Company, Inc., P.O. Box 405, Arjay, Kentucky 40902 has filed a petition to modify the application of 30 CFR 75.380(i)(2) (escapeways; bituminous and lignite mines) to its Straight Creek #1 Mine (I.D. No. 15-12564) located in Bell County, Kentucky. The petitioner proposes to use a manually operated hoist as a mechanical means of escape in its secondary escapeway. The petitioner asserts that the proposed alternative method would provide at least the same measure of protection as the existing standard.

13. Faith Coal Sales, Inc.

[Docket No. M-2001-038-C]

Faith Coal Sales, Inc., P.O. Box 69, Regina, Kentucky 41559 has filed a petition to modify the application of 30 CFR 75.503 (permissible electric face equipment; maintenance) and 18.41(f) (plug and receptacle-type connectors) to its White Star No. 1 Mine (I.D. No. 15-17224) located in Knott County, Kentucky. The petitioner proposes to use permanently installed, spring-loaded locking devices instead of padlocks on battery-powered machines to prevent unintentional loosening of battery plugs from battery receptacles to eliminate the hazards associated with difficult removal of padlocks during emergency situations. The petitioner asserts that application of the proposed alternative method would provide at least the same measure of protection as the existing standard.

14. Black Beauty Coal Company

[Docket No. M-2001-039-C]

Black Beauty Coal Company, 801 Laidley Tower, P.O. Box 1233, Charleston, West Virginia 25324-1233 has filed a petition to modify the application of 30 CFR 75.1002 (location of trolley wires, trolley feeder wires, high-voltage cables and transformers) to its Riola #1 Mine (I.D. No. 11-02971) located in Vermilion County, Illinois. The petitioner requests that the proposed decision and order (PDO) for its previously granted petition M-2000-138-C be amended. The petitioner's request is to change paragraph 1 to paragraph 1a, and add paragraph 1b to read as follows: An onboard mounted 480-volt to 2,400-volt transformer may be used when the miner is trammed into, out of, or around the mine using specific procedures outlined in the petition; to add specific criteria to be met in paragraph 16b; to add language at the end of paragraph 25; to amend paragraph 28 to allow functional test to be conducted weekly instead of at the start of each production shift; to add language to paragraph 32; and add paragraph 34. The petitioner asserts that the proposed alternative method would provide at least the same measure of protection as the existing standard.

15. Peabody Coal Company

[Docket No. M-2001-040-C]

Peabody Coal Company, 801 Laidley Tower, P.O. Box 1233, Charleston, West Virginia 25324-1233 has filed a petition to modify the application of 30 CFR 75.1002 (location of trolley wires, trolley feeder wires, high-voltage cables and transformers) to its Highland Mine (I.D. No. 15-02709) located in Union County, Kentucky. The petitioner proposes to use high-voltage (2,400) trailing cables at the working continuous miner section(s) and use a portable transformer to supply power to the 995-volt tramming motors on the continuous miner when the miner is trammed into, out of, or around the mine. The petitioner asserts that the proposed alternative method would provide at least the same measure of protection as the existing standard.

16. Appalachian Eagle, Inc.

[Docket No. M-2001-041-C]

Appalachian Eagle, Inc., 2971C East Dupont Avenue, Shrewsbury, West Virginia 25015 has filed a petition to modify the application of 30 CFR 75.1700 (oil and gas wells) to its Mine No. 1 (I.D. No. 46-05437) located in Kanawha County, West Virginia. The petitioner proposes to plug and mine through oil and gas wells. The petitioner asserts that the proposed alternative method would provide at least the same measure of protection as would the existing standard.

17. Branham & Baker Underground Corp.

[Docket No. M-2001-0042-C]

Branham & Baker Underground Corp., P.O. Box 1409, Pikeville, Kentucky 41502 has filed a petition to modify the application of 30 CFR 75.503 (permissible electric face equipment; maintenance) 18.41 (plug and receptacle-type connectors) to its Mine #2B (I.D. No. 15-17902), Mine #10 (I.D. No. 15-07763), Mine #15 (I.D. No. 15-17786), and Mine #22 (I.D. No. 15-18285) all located in Pike County, Kentucky. The petitioner proposes to use a permanently installed spring-loaded device instead of padlocks on battery-powered machines to prevent unintentional loosening of battery plugs from battery receptacles to eliminate the hazards associated with difficult removal of padlocks during emergency situations. The petitioner asserts that the proposed alternative method would provide at least the same measure of protection as the existing standard.

18. West Ridge Resources, Inc.

[Docket No. M-2001-043-C]

West Ridge Resources, Inc., P.O. Box 902, Price, Utah 84501 has filed a petition to modify the application of 30 CFR 75.804(a) (underground high-voltage cables) to its West Ridge Mine (I.D. No. 42-02233) located in Carbon County, Utah. The petitioner proposes to use high-voltage cables for longwall equipment, with an insulated internal ground check conductor smaller than a No. 10 (AWG), and a ground check conductor not smaller than a No. 16 (AWG). The high-voltage cables would be Cablec Anaconda brand 5KV 3/C type SHD+GC, Pirelli 5KV 3/C type SHD-CENTER-GC or Tiger Brand 5KV type SHC-CGC, MSHA accepted flame-resistant cable. The petitioner asserts that the proposed alternative method would provide at least the same measure of protection as the existing standard.

19. Canyon Fuel Company, LLC

[Docket No. M-2001-044-C]

Canyon Fuel Company, LLC, HC 35 Box 380, Helper, Utah 84526 has filed a petition to modify the application of 30 CFR 75.1002 (underground high-voltage cables) to its Skyline Mine #3 (I.D. No. 42-01566) located in Carbon County, Utah. The petitioner proposes to use high-voltage (4,160-volt) longwall equipment in by the last open crosscut at the working longwall sections. The petitioner asserts that the proposed alternative method would provide at least the same measure of protection as would the existing standard.

20. Drummond Company, Inc.

[Docket No. M-2001-045-C]

Drummond Company, Inc., P.O. Box 10246, Birmingham, Alabama 35202-0246 has filed a petition to modify the application of 30 CFR 75.1002 (underground high-voltage cables) to its Shoal Creek Mine (I.D. No. 01-02901) located in Jefferson County, Alabama. The petitioner proposes to use high-voltage (2,400-volts) cables on its continuous miner sections. The petitioner asserts that the proposed alternative method would provide at least the same measure of protection as the existing standard.

21. Headache Coal Company, Inc.

[Docket No. M-2001-046-C]

Headache Coal Company, Inc., 22 Mary Ann Drive, Gray, Kentucky 40734 has filed a petition to modify the application of 30 CFR 75.342 (methane monitors) to its Goodin Creek Mine (I.D. No. 15-18176) located in Knox County, Kentucky. The petitioner proposes to use hand-held continuous-duty methane and oxygen indicators on three-wheel tractors with drag bottom buckets instead of using machine mounted monitors. The petitioner asserts that the proposed alternative method would provide at least the same measure of protection as the existing standard.

22. Headache Coal Company, Inc.

[Docket No. M-2001-047-C]

Headache Coal Company, Inc., 22 Mary Ann Drive, Gray, Kentucky 40734 has filed a petition to modify the application of 30 CFR 75.380(f)(4)(i) (escapeways; bituminous and lignite mines) to its Goodin Creek Mine (I.D. No. 15-18176) located in Knox County, Kentucky. The petitioner proposes to use two ten-pound portable chemical fire extinguishers on each Mescher Jeep. The fire extinguishers will be readily accessible to the equipment operator. The petitioner proposes to instruct the equipment operator to inspect each fire extinguisher daily prior to entering the mine, replace all defective fire extinguishers before entering the mine, and maintain records of all inspections of the fire extinguishers. The petitioner asserts that the proposed alternative method would provide at least the same measure of protection as the existing standard.

23. Appalachian Eagle, Inc.

[Docket No. M-2001-048-C]

Appalachian Eagle, Inc., Box 282, Dawes, West Virginia 25054-0282 has filed a petition to modify the application of 30 CFR 75.503 (permissible electric face equipment; maintenance) and 30 CFR 18.41(f) (plug and receptacle-type connectors) to its Mine #1 (I.D. No. 46-05437) located in Kanawha County, West Virginia. The petitioner proposes to use a permanently installed spring-loaded device instead of padlocks on battery-powered machines to prevent unintentional loosening of battery plugs from battery receptacles to eliminate the hazards associated with difficult removal of padlocks during emergency situations. The petitioner asserts that application of the existing standard would result in a diminution of safety to the miners and that the proposed alternative method would provide at least the same measure of protection as the existing standard.

24. Coastal Coal West Virginia, LLC

[Docket No. M-2001-049-C]

Coastal Coal West Virginia, LLC, R. 1, Box 294C, Newburg, West Virginia 26410 has filed a petition to modify the application of 30 CFR 75.350 (air courses and belt haulage entries) to its Whitetail K-Mine (I.D. No. 46-08751) located in Preston County, West Virginia. The petitioner proposes to use belt haulage entries to ventilate active working places. The petitioner proposes to install a carbon monoxide monitoring system as an early warning fire detection system in all belt entries used to course intake air to a working place. The petitioner asserts that the proposed alternative method would provide at least the same measure of protection as the existing standard.

25. Mingo Logan Coal Company

[Docket No. M-2001-050-C]

Mingo Logan Coal Company, 1000 Mingo Logan Avenue, Wharncliffe, West Virginia 25651 has filed a petition to modify the application of 30 CFR 75.1700 (oil and wells) to its Mountaineer Alma-A Mine (I.D. No. 46-08730) located in Mingo County, West Virginia. The petitioner proposes to plug and mine through gas wells. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before July 5, 2001. Copies of these petitions are available for inspection at that address.

Dated at Arlington, Virginia this 29th day of May 2001.
David L. Meyer,
Director, Office of Standards, Regulations, and Variances.

[FR Doc. 01-14116 Filed 6-4-01; 8:45 am]

BILLING CODE 4510-43-U